DEPARTMENT OF THE INTERIOR

Bureau of Land Management

[18X 1109AF LLUT930000 L16100000.DS0000.LXSSJ0640000]

Notice of Error in Draft Resource Management Plans and Associated Environmental Impact Statement for the Grand Staircase-Escalante National Monument-Grand Staircase, Kaiparowits, and Escalante Canyon Units and Federal Lands Previously Included in the Monument That Are Excluded From the Boundaries; Extension of Public Comment Period, Utah

AGENCY: Bureau of Land Management, Interior.

ACTION: Notice of error and extension of public comment period.

SUMMARY: This action corrects an error related to potential disposal of Federal lands under the Federal Land Policy and Management Act, as amended (FLPMA), within a notice published in the Federal Register on August 17, 2018. The Bureau of Land Management (BLM) Grand Staircase-Escalante National Monument (GSENM) and Kanab Field Office published in the Federal Register the availability of Draft Resource Management Plans (RMPs) and an associated Environmental Impact Statement (EIS) for the Grand Staircase-Escalante National Monument-Grand Staircase, Kaiparowits, and Escalante Canyon Units and Federal lands previously included in the Monument that are excluded from the boundaries. The BLM is modifying the Draft RMPs and EIS so that it does not include any Federal lands identified as available for potential disposal under FLPMA.

DATES: The BLM is extending the public comment period by 15 days to provide for notice of and opportunity to comment on the modified Draft RMPs and EIS. Comments should be submitted by November 30, 2018.

ADDRESSES: You may submit comments on the modified Draft RMPs and EIS by either of the following methods:

• Website: https://goo.gl/EHvhbc.

• Mail: 669 S Hwy. 89A Kanab, UT 84741, Attn: Matt Betenson.

Copies of the modified Draft RMPs and EIS are available at the following locations:

• Bureau of Land Management, Utah State Office, 440 West 200 South, Suite 500, Salt Lake City, Utah.

• Escalante Interagency Visitor Center, 755 West Main, Escalante, Utah.

• Kanab Field Office, 669 South Highway 89A, Kanab, Utah.

The modified Draft RMPs and EIS and accompanying errata sheet are available on the ePlanning website at: https://goo.gl/EHvhbc.

FOR FURTHER INFORMATION CONTACT: Matt Betenson, Associate Monument Manager, telephone (435) 644-1200; address 669 S Hwy. 89A, Kanab, UT 84741; email BLM_UT_CCD_monuments@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: On December 4, 2017, President Trump signed Presidential Proclamation 9682 modifying the boundaries of the GSENM as established by Proclamation 6920 to exclude from designation and reservation approximately 861,974 acres of land. Lands that are excluded from the Monument boundaries are now referred to as the Kanab-Escalante Planning Area and are managed in accordance with the BLM's multiple-use mandate.

The Draft EIS noticed in the Federal Register on August 17, 2018 (83 FR 41108), includes three alternatives that identify Federal lands as available for potential disposal under FLPMA. In accordance with direction issued by the Deputy Secretary of the Interior in an August 17, 2018, Memorandum, the BLM is modifying the Draft RMPs and EIS so that the range of alternatives does not identify any lands as available for potential disposal under FLPMA. The BLM has made a limited number of corresponding changes to sections included in the Draft RMPs and EIS, including the Executive Summary, Chapter 2 (Alternatives), Chapter 3 (Affected Environment and Environmental Consequences), Appendix A (Map 35), Appendix G (Best Management Practices), Appendix H (Stipulations and Exceptions, Modifications and Waivers), and Appendix K (Lands Identified for Disposal). These modifications do not substantially change the alternatives in the Draft RMPs and EIS or the analysis of effects on the human environment, but they do remove the identification of Federal lands as available for potential disposal under FLPMA.

The modified Draft RMPs and EIS and an accompanying errata sheet that includes a summary of all of the changes made will be distributed to stakeholders and is available on the BLM's ePlanning website at: https://goo.gl/EHvhbc.

The BLM is soliciting comments on the entire modified Draft RMPs and EIS. All comments received by the BLM subsequent to the notice of availability for the Draft RMPs and EIS on August 17, 2018, but prior to publication of this notice, will be included in the project record and considered by the agency in preparation of the Final RMPs and EIS. Please note that public comments and information submitted, including names, street addresses, and email addresses of persons who submit comments, will be available for public review and disclosure at the addresses provided in the ADDRESSES section of this notice during regular business hours (8 a.m. to 4 p.m.), Monday through Friday, except holidays.

Before including your address, phone number, email address, or other personally identifiable information in your comment, you should be aware that your entire comment—including your personally identifiable information—may be made publicly available at any time. While you may request that the BLM withhold your personally identifiable information from public review, we cannot guarantee that we will be able to do so.

Authority: 40 CFR 1506.6, 40 CFR 1506.10, and 43 CFR 1610.2.

Edwin L. Roberson,
State Director.

[FR Doc. 2018-19000 Filed 8-30-18; 8:45 am]

BILLING CODE 4310-DQ-P